DEPARTMENT OF VETERANS AFFAIRS

[OMB Control No. 2900-0101]

Proposed Information Collection (Eligibility Verification Reports); Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection and allow 60 days for public comment in response to the notice. This notice solicits comments on information needed to determine and verify entitlement to income-based benefits.

DATES: Written comments and recommendations on the proposed collection of information should be received on or before June 10, 2008.

ADDRESSES: Submit written comments on the collection of information through http://www.Regulations.gov or to Nancy J. Kessinger, Veterans Benefits Administration (20M35), Department of Veterans Affairs, 810 Vermont Avenue, NW., Washington, DC 20420 or e-mail to nancy.kessinger@va.gov. Please refer to “OMB Control No. 2900-0101” in any correspondence. During the comment period, comments may be viewed online through the Federal Docket Management System (FDMS) at http://www.Regulations.gov.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles: Eligibility Verification Reports (EVR).

a. Eligibility Verification Report Instructions, VA Form 21-0510.

b. Old Law and Section 306 Eligibility Verification Report (Surviving Spouse), VA Form 21-0512S-1.

c. Old Law and Section 306 Eligibility Verification Report (Veteran), VA Form 21-0512V-1.

d. Old Law and Section 306 Eligibility Verification Report (Children Only), VA Form 21-0513-1.

e. DIC Parent's Eligibility Verification Report, VA Forms 21-0514 and 21-0514-1.

f. Improved Pension Eligibility Verification Report (Veteran With No Children), VA Forms 21-0516 and 21-0516-1.

g. Improved Pension Eligibility Verification Report (Veteran With Children), VA Forms 21-0517 and 21-0517-1.

h. Improved Pension Eligibility Verification Report (Surviving Spouse With No Children), VA Forms 21-0518 and 21-0518-1.

i. Improved Pension Eligibility Verification Report (Child or Children), VA Forms 21-0519C and 21-0519C-1.

j. Improved Pension Eligibility Verification Report (Surviving Spouse With Children), VA Forms 21-0519S and 21-0519S-1.

OMB Control Number: 2900-0101.

Type of Review: Extension of a currently approved collection.

Abstract: VA uses Eligibility Verification Reports (EVR) forms to verify a claimant's continued entitlement to benefits. Claimants who applied for or receives Improved Pension or Parents' Dependency and Indemnity Compensation must promptly notify VA in writing of any changes in entitlement factors. EVRs are required annually by beneficiaries whose social security number (SSN) or whose spouse's SSN is not verified, or who has income other than Social Security. Recipients of Old Law and Section 306 Pension are no longer required to submit annual EVRs unless there is a change in their income.

Affected Public: Individuals or households.

Estimated Annual Burden: 113,075 hours. The annual burden for VA Forms 21-0512S-1, 21-0512V-1, 21-0513-1, 21-0514, 21-0514-1, 21-0516, 21-0516-1, 21-0518, 21-0518-1, 21-0519C, and 21-0519C-1 is 9,8775 and 14,300 for VA Forms 21-0517, 21-0517-1, 21-0519S, and 21-0519S-1.

Estimated Average Burden per Respondent: The estimated burden respondent for VA Forms 21-0512S-1, 21-0512V-1, 21-0513-1, 21-0514, 21-0514-1, 21-0516, 21-0516-1, 21-0518, 21-0518-1, 21-0519C, and 21-0519C-1 is 30 minutes and 40 minutes for VA Forms 21-0517, 21-0517-1, 21-0519S, and 21-0519S-1.

Frequency of Response: Annually.

Estimated Number of Respondents: 219,000. The number of respondents for VA Forms 21-0512S-1, 21-0512V-1, 21-0513-1, 21-0514, 21-0514-1, 21-0516, 21-0516-1, 21-0518, 21-0518-1, 21-0519C, and 21-0519C-1 is 197,550 and 21,450 for VA Forms 21-0517, 21-0517-1, 21-0519S, and 21-0519S-1.

Dated: April 4, 2008.
By direction of the Secretary.
Denise McLamb,
Program Analyst, Records Management Service.

[FR Doc. E8-7751 Filed 4-10-08; 8:45 am]

BILLING CODE 8320-01-P